COUNCIL ON ENVIRONMENTAL QUALITY

[CEQ-2023-0005]

Environmental Justice Scorecard

AGENCY: Council on Environmental Quality (CEQ).

ACTION: Request for information.

SUMMARY: The Council on Environmental Quality (CEQ) is issuing this request for information (RFI) to solicit feedback on Phase One of the Environmental Justice Scorecard, which will inform future versions of the Environmental Justice Scorecard.

DATES: CEQ seeks any comments by 11:59 p.m. ET on January 19, 2024.

ADDRESSES: You may submit comments, identified by docket number CEQ-2023-0005, by any of the following methods:

• Using the Federal eRulemaking Portal: visit https://www.regulations.gov and follow the instructions for submitting comments. For more information, see https://www.regulations.gov/faq.

• By fax to 202-456-6546.

• By mail to Council on Environmental Quality, 730 Jackson Place NW, Washington, DC 20503 (must be received by January 19, 2024).

Instructions: Your submission must include: “Council on Environmental Quality,” and the docket number for this RFI, which is CEQ-2023-0005.

CEQ will publish public comments it receives in response to this notice, including personal information, without change on https://www.regulations.gov. Please do not submit any information you consider to be private information, privileged or confidential commercial or financial information, or other information the disclosure of which is restricted by law.

Response to this RFI is voluntary. Each responding entity (individual or organization) is requested to submit only one response. Please feel free to respond to as many of the questions as you choose, indicating the number of each question that you are addressing. We encourage you to include your name and contact information, but it is not required. If you are responding on behalf of an organization, we further encourage you to include the organization's name, its type (e.g., academic, non-profit, professional society, community-based organization, industry, government, other), and your role in the organization. You may include references to academic literature or links to online material but please ensure all links are publicly available.

FOR FURTHER INFORMATION CONTACT: Kareem Ihmeidan, Staff Assistant for Environmental Justice, 202-395-5750, AbdelKareem.I.Ihmeidan@ceq.eop.gov.

SUPPLEMENTARY INFORMATION:

I. Background

Since day one, President Biden has prioritized environmental justice by launching a whole-of-government effort to confront longstanding environmental injustices and inequities. The Environmental Justice Scorecard, https://ejscorecard.geoplatform.gov/scorecard/, is a signature component of this commitment. It is the first-ever government-wide assessment of what the Federal Government is doing to advance environmental justice. The Environmental Justice Scorecard was created at the direction of President Biden pursuant to Executive Order (E.O.) 14008 on Tackling the Climate Crisis at Home and Abroad (January 27, 2021).¹ The goals of the Environmental Justice Scorecard include to assess the Federal Government's progress on advancing environmental justice, to provide transparency for the public, and to increase accountability for Federal agencies.

¹ 86 FR 7619 (Feb. 1, 2021), https://www.govinfo.gov/content/pkg/FR-2021-02-01/pdf/2021-02177.pdf.

The first version of the Environmental Justice Scorecard, or the Phase One Scorecard, was launched ² the same day that President Biden signed Executive Order 14096 on Revitalizing Our Nation's Commitment to Environmental Justice for All (April 21, 2023).³ This Executive Order further embeds environmental justice into the work of Federal agencies to achieve real, measurable progress that communities can count on. Among other things, E.O. 14096 defines “environmental justice” as the just treatment and meaningful involvement of all people, regardless of income, race, color, national origin, Tribal affiliation, or disability, in agency decision-making and other Federal activities that affect human health and the environment so that people: (i) are fully protected from disproportionate and adverse human health and environmental effects (including risks) and hazards, including those related to climate change, the cumulative impacts of environmental and other burdens, and the legacy of racism or other structural or systemic barriers; and (ii) have equitable access to a healthy, sustainable, and resilient environment in which to live, play, work, learn, grow, worship, and engage in cultural and subsistence practices. Sec. 2(b), E.O. 14096.

² https://www.whitehouse.gov/briefing-room/statements-releases/2023/04/21/fact-sheet-president-biden-signs-executive-order-to-revitalize-our-nations-commitment-to-environmental-justice-for-all/.

³ 88 FR 25251 (Apr. 26, 2023), https://www.govinfo.gov/content/pkg/FR-2023-04-26/pdf/2023-08955.pdf.

With E.O. 14096, the President is working to ensure that all people—regardless of race, background, income, ability, Tribal affiliation, or zip code—can benefit from the vital safeguards enshrined in our nation's foundational environmental and civil rights laws. That means cleaner air and water, reduced risk for asthma, cancer, and other health burdens, and better access to green space, safe and affordable housing, and clean transportation. This RFI advances the goals of E.O. 14096, including Section 3(a)(vii) on creating opportunities for meaningful engagement.

Phase One of the Environmental Justice Scorecard presents a baseline assessment of actions taken by Federal agencies in 2021 and 2022 to help achieve the Biden-Harris Administration's environmental justice goals. It reports on the progress of 24 Federal agencies in the following categories:

• Advancing the President's Justice40 Initiative; ⁴

⁴ Justice40, A Whole-of-Government Initiative, https://www.whitehouse.gov/environmentaljustice/justice40/.

• Implementing and enforcing environmental and civil rights laws; and

• Embedding environmental justice throughout the Federal Government.

The docket for this RFI includes supplementary material that presents metrics used in the Phase One Scorecard. The specific metrics and actions included for Federal agencies vary based on the type, size, and mission of each agency. For example, some but not all of the Federal agencies participating in the Phase One Scorecard are members of the White House Environmental Justice Interagency Council (IAC) and some but not all have Justice40 covered programs. If data are unavailable for a Federal agency, the corresponding metrics do not appear on that agency's page.

The Phase One Scorecard was developed by the White House Office of Management and Budget (OMB), in coordination with CEQ and the IAC. It was informed by recommendations and feedback from environmental justice stakeholders and experts. In particular, recommendations from the White House Environmental Justice Advisory Council ⁵ (WHEJAC) and public comments informed its development, including from a Request for Information published in the Federal Register in August 2022.⁶

⁵ https://www.whitehouse.gov/environmentaljustice/white-house-environmental-justice-advisory-council/.

⁶ CEQ, Environmental Justice Scorecard Feedback, Request for Information, 87 FR 47,397 (Aug. 3, 2022), https://www.govinfo.gov/content/pkg/FR-2022-08-03/pdf/2022-16635.pdf.

The Phase One Scorecard provides a valuable snapshot of key environmental justice work in progress at a particular point in time, based on available data and metrics. The Environmental Justice Scorecard will be updated annually, with the goal of creating a durable, robust, and comprehensive tool to assess and demonstrate the Federal Government's efforts to secure environmental justice for all.

This RFI is part of the Administration's commitment to ensuring that environmental justice efforts within the Federal Government, including the development of future versions of the Environmental Justice Scorecard, are informed by the priorities and perspectives of the public, including communities with environmental justice concerns. By soliciting input through this RFI, CEQ and OMB seek input from the public in shaping the vision and goals for the Environmental Justice Scorecard and welcome ideas on ways to improve the public's ability to monitor the Federal Government's progress and hold the Federal Government accountable for delivering results in advancing environmental justice for all.

II. Key Questions for Input

CEQ and OMB seek feedback on the public's experiences using Phase One of the Environmental Justice Scorecard, as well as input for future versions of the Environmental Justice Scorecard. Input may be offered on any aspect of the Environmental Justice Scorecard, but is particularly welcome in response to these questions:

1. How can the Environmental Justice Scorecard improve the way it organizes, displays, or presents data to be more accessible, understandable, and useful for the public, including for communities with environmental justice concerns? Please feel free to provide any examples of scorecards or other publicly accessible tools that Tribal, state, or local governments or private entities use to measure and convey progress that may be helpful to review.

2. What additional metric or metrics of Federal agency action or progress in advancing environmental justice might be relevant and helpful to consider including in future versions of the Environmental Justice Scorecard, such as any metric that may help further reflect the needs and priorities of communities with environmental justice concerns or show how certain Federal investments are benefiting disadvantaged communities, including benefits from Justice40 covered programs? The public is welcome to offer any potential metric or metrics in any of the categories of the Phase One Scorecard (listed above), or any potential new categories. For any potential new metric offered, it would be especially helpful to include information on the following, if possible:

○ Whether the suggested metric would be specific to one Federal agency or cross-cutting (i.e., applicable to all or multiple agencies).

○ Whether the suggested metric would measure or focus on any particular output (such as the number of trainings related to environmental justice for staff conducted by an agency) or outcome (such as a highlight of the benefits of a Justice40 covered program in a disadvantaged community, like improved air quality or drinking water safety).

○ Whether there is any existing example where the suggested metric is already reported or used (e.g., by a single agency or outside of the Federal Government).

3. What kind of qualitative information (such as updates on Federal agency work or milestones that may not be possible to summarize with numbers or data alone) does the public consider most valuable to include or add to a future Scorecard, in addition to quantitative metrics or data?

4. Please feel free to offer any additional category or categories of the Federal Government's work or progress that future versions of the Environmental Justice Scorecard might include to advance the goal of environmental justice.

5. Please feel free to share any additional feedback relevant to Phase One of the Environmental Justice Scorecard or any aspect of a future version of the Environmental Justice Scorecard.

Matthew G. Lee-Ashley,
Chief of Staff.

[FR Doc. 2023-25508 Filed 11-17-23; 8:45 am]

BILLING CODE 3325-F4-P